DEPARTMENT OF LABOR

Office of the Secretary

Agency Information Collection Activities; Submission for OMB Review; Comment Request; Death Gratuity

ACTION: Notice.

SUMMARY: The Department of Labor (DOL) is submitting the Office of Workers' Compensation Programs (OWCP) sponsored information collection request (ICR) revision titled, “Death Gratuity,” to the Office of Management and Budget (OMB) for review and approval for use in accordance with the Paperwork Reduction Act (PRA) of 1995 (44 U.S.C. 3501 et seq.).

DATES: Submit comments on or before July 18, 2013.

ADDRESSES: A copy of this ICR with applicable supporting documentation; including a description of the likely respondents, proposed frequency of response, and estimated total burden may be obtained free of charge from the RegInfo.gov Web site at http://www.reginfo.gov/public/do/PRAViewICR?ref_nbr=201301-1240-002 (this link will only become active on the day following publication of this notice) or by contacting Michel Smyth by telephone at 202-693-4129 (this is not a toll-free number) or sending an email to DOL_PRA_PUBLIC@dol.gov.

Submit comments about this request to the Office of Information and Regulatory Affairs, Attn: OMB Desk Officer for DOL-OWCP, Office of Management and Budget, Room 10235, 725 17th Street NW., Washington, DC 20503, Fax: 202-395-6881 (this is not a toll-free number), email: OIRA_submission@omb.eop.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: The National Defense Authorization Act for Fiscal Year 2008, Public Law 110-181, amended the Federal Employees' Compensation Act (FECA) by establishing a FECA death gratuity benefit of up to $100,000 for eligible beneficiaries of Federal employees and Non-Appropriated Fund Instrumentality employees who die from injuries incurred in connection with service with an Armed Force in a contingency operation. See 5 U.S.C. 8102a. The OWCP associates three forms with this ICR. Form CA-40 requests information necessary from an employee who chooses to name alternate beneficiaries from those otherwise established by law. Form CA-41 provides the means for those named beneficiaries to file benefit claims. Information provided by such claimants allows the OWCP to determine payment eligibility. The statute and regulations also require Agencies to notify the OWCP immediately upon the death of a covered employee, and Form CA-42 provides the means to accomplish this notification. This latter form requests information necessary to administer any claim for benefits resulting from such a death.

This ICR has been classified as a revision, because the OWCP has enhanced disclosures on the forms about how the Agency uses information collected under this ICR and the accommodations available for respondents with disabilities. For additional substantive information about this ICR, see the related notice published in the Federal Register on February 19, 2013 (78 FR 11638).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1240-0017. It should be noted that existing information collection requirements submitted to the OMB receive a month-to-month extension while they undergo review. New information collection provisions would only take effect upon OMB approval.

Interested parties are encouraged to send comments to the OMB, Office of Information and Regulatory Affairs at the address shown in the ADDRESSES section within 30 days of publication of this notice in the Federal Register. In order to help ensure appropriate consideration, comments should mention OMB Control Number 1240-0017. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Death Gratuity.

OMB Control Number: 1240-0017.

Affected Public: Federal Government and Individuals or Households.

Total Estimated Number of Respondents: 272.

Total Estimated Number of Responses: 272.

Total Estimated Annual Burden Hours: 70.

Total Estimated Annual Other Costs Burden: $5.

Dated: June 12, 2013.
Michel Smyth,
Departmental Clearance Officer.

[FR Doc. 2013-14473 Filed 6-17-13; 8:45 am]

BILLING CODE 4510-CH-P